DEPARTMENT OF AGRICULTURE

Rural Housing Service

Notice of Funding Availability (NOFA) for the Section 538 Guaranteed Rural Rental Housing Program (GRRHP) for Fiscal Year (FY) 2004

AGENCY: Rural Housing Service (RHS), USDA.

ACTION: Notice.

SUMMARY: This NOFA announces the availability of funds for the section 538 Guaranteed Rural Rental Housing Program for FY 2004. Congress appropriated $99.410 million to the section 538 GRRHP for FY 2004. All applicants that submitted responses to the section 538 GRRHP notice published in the Federal Register on February 6, 2004 (69 FR 5826) will be considered for FY 2004 funding. The commitment of program dollars will be made to applicants of selected responses that have fulfilled the necessary requirements for obligation as described in the February 6, 2004, Federal Register Notice. The Agency will continue to review applications submitted hereafter from eligible applicants until all funds are expended.

The Agency will issue a notice to inform the public when funds have been exhausted for FY 2004.

Dated: March 9, 2004.
Arthur A. Garcia,
Administrator, Rural Housing Service.

[FR Doc. 04-5960 Filed 3-16-04; 8:45 am]

BILLING CODE 3410-XV-P